FEDERAL COMMUNICATIONS COMMISSION

47 CFR Part 73

[DA 10-196, MB Docket No. 07-296, RM-11412]

FM TABLE OF ALLOTMENTS, French Lick, Indiana, and Irvington, Kentucky.

AGENCY: Federal Communications Commission.

ACTION: Final rule.

SUMMARY: The staff grants a rulemaking petition filed by L. Dean Spencer to allot FM Channel 261A at Irvington, Kentucky, as a first local service. To accommodate this new allotment, the staff modifies the license of Station WFLQ(FM), French Lick, Indiana, to specify operation on Channel 229A in lieu of Channel 261A.

DATES: Effective March 15, 2010.

ADDRESSES: Federal Communications Commission, 445 12th Street, SW, Washington, DC 20554.

FOR FURTHER INFORMATION CONTACT: Andrew J. Rhodes, Media Bureau, (202) 418-2180.

SUPPLEMENTARY INFORMATION: This is a summary of the Commission's Report and Order, MB Docket No. 07-296, adopted January 27, 2010, and released January 29, 2010. The full text of this Commission document is available for inspection and copying during normal business hours in the FCC Reference Information Center (Room CY-A257), 445 12th Street, SW., Washington, DC.

The complete text of this decision may also be purchased from the Commission's copy contractor, Best Copy and Printing, Inc., 445 12th Street, SW, Room CY-B402, Washington, DC 20554, 800-378-3160 or via the company's website, <http://www.bcpiweb.com>.

The Notice of Proposed Rule Making also included an Order to Show Cause directed to the licensee of Station WFLQ(FM), French Lick, Indiana, to show cause why its license should not be modified to specify operation on Channel 229A in lieu of Channel 261A. See 73 FR 50296, published August 26, 2008. Although Station WFLQ(FM) argued that it should not be required to change channels, the Report and Order found that the station had not raised a substantial and material question of fact that would warrant a hearing on this issue. The document also states that the ultimate permittee of Channel 261A at Irvington, Kentucky, will be required to reimburse Station WFLQ(FM), French Lick, Indiana, for its reasonable and prudent costs associated with the involuntary channel change at French Lick. The reference coordinates for Channel 261A at Irvington are 37-56-52 NL and 86-24-54 WL. The reference coordinates for Channel 229A at French Lick are 38-35-41 NL and 86-36-48 WL. Finally, because Station WFLQ(FM) is a licensed station, the channel substitution at French Lick will be updated in the Commission's Consolidated Data Base System [CDBS].

This document does not contain new or modified information collection requirements subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506(c)(4).

The Commission will send a copy of this Report & Order in a report to be sent to Congress and the Government Accountability Office pursuant to the Congressional Review Act, see 5 U.S.C. 801(a)(1)(A).

Provisions of the Regulatory Flexibility Act of 1980 do not apply to this proceeding.

List of Subjects in 47 CFR Part 73

Radio, Radio broadcasting.

As stated in the preamble, the Federal Communications Commission amends 47 CFR part 73 as follows:

PART 73—RADIO BRAODCAST SERVICES

1. The authority citation for part 73 continues to read as follows:

Authority: 47 U.S.C. 154, 303, 334, 336.

§ 73.202 [Amended]

2. Section 73.202(b), the Table of FM Allotments under Kentucky, is amended by adding Irvington, Channel 261A.

Federal Communications Commission.
John A. Karousos,
Assistant Chief,
Audio Division,
Media Bureau.

[FR Doc. 2010-4364 Filed 3-2-10; 8:45 am]

BILLING CODE 6712-01-S